NATIONAL FOUNDATION ON THE ARTS AND THE HUMANITIES

Institute of Museum and Library Services

Submission for OMB Review, Comment Request, Proposed Collection Requests: Building a National Network of Museums and Libraries for School Readiness Project (SRP)

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. The purpose of this Notice is to solicit comments about this assessment process, instructions and data collections. A copy of the proposed information collection request can be obtained by contacting the individual listed below in the ADDRESSES section of this notice.

DATES: Written comments must be submitted to the office listed in the FOR FURTHER INFORMATION CONTACT section below on or before May 29, 2020. OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Marvin Carr, Institute of Museum and Library Services, 955 L'Enfant Plaza North SW, Suite 4000, Washington, DC 20024-2135. Dr. Carr can be reached by Telephone: 202-653-4752, Fax: 202-653-4601, or by email at mcarr@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: Over its history, the Institute of Museum and Library Services (IMLS) has invested in a wide range of projects supporting research and practice in early childhood education through grant making and special initiatives. This project builds off the Boston Children's Museum's (BCM) and IMLS's previous work in piloting School Readiness Project in South Carolina and Virginia by scaling it into Iowa, Mississippi, and New Mexico. It addresses persistent gaps in early childhood education and school readiness and aims to amplify the strength of organizations serving children and families by forming networks between and across these organizations. The purpose of this data collection effort is to obtain a holistic view of the museum target audience and needs for capacity building support, identify potential gaps in the suite of current offerings, and define both opportunities and partnerships for new and expanded offerings.

This action is to seek approval for the information collection for the Building a National Network of Museums and Libraries for School Readiness Project for the next three years.

Agency: Institute of Museum and Library Services.

Title: Building a National Network of Museums and Libraries for School Readiness Project.

The 30-day notice for the Building a National Network of Museums and Libraries for School Readiness Project, was published in the Federal Register on November 4, 2019 (84 FR 59422). One comment was received.

Agency: Institute of Museum and Library Services.

Title: Building a National Network of Museums and Libraries for School Readiness Project.

OMB Number: 3137-TBD.

Agency Number: 3137.

Affected Public: Federal, State and local governments, museums.

Number of Respondents: 520.

Frequency: Once.

Burden Hours per Respondent: 6.

Total Burden Hours: 806.

Total Annual Costs: $20,188.06.

Dated: April 27, 2020.
Kim Miller,
Senior Grants Management Specialist, Institute of Museum and Library Services.

[FR Doc. 2020-09238 Filed 4-29-20; 8:45 am]

BILLING CODE 7036-01-P